DEPARTMENT OF EDUCATION

[CFDA No: 84.350]

Final Requirements for Fiscal Year (FY) 2001 Competitions Under the Transition to Teaching Program

AGENCY: Office of Elementary and Secondary Education, Department of Education.

ACTION: Notice of final requirements for fiscal year (FY) 2001 competitions under the Transition to Teaching program.

SUMMARY: We announce final requirements to govern the initial grant competition and FY 2001 awards under the new Transition to Teaching program. The program is funded in the Department's FY 2001 appropriation under Title II, part A, of the Elementary and Secondary Education Act. These requirements are needed to promote a fair and appropriate grants competition, and to ensure that all projects will be conducted consistent with the purposes of the program.

DATES: These requirements are effective May 16, 2001.

FOR FURTHER INFORMATION CONTACT: Frances Yvonne Hicks, School Improvement Programs, Office of Elementary and Secondary Education, 400 Maryland Ave. SW, Room 3E224, Washington, DC 20202-6140: Telephone: (202) 260-0964. Inquiries also may be sent by e-mail to: transition to teaching@ed.gov or by FAX to: (202) 205-5630. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION: The Nation faces a severe shortage of qualified teachers. America's schools will need to hire 2.2 million teachers over the next ten years, and if the Nation is to achieve its education goals, they will need to be the most talented and qualified generation of teachers ever.

The need to recruit talented Americans of all ages into the teaching profession, and particularly those who already have content-area expertise, is self-evident. Nationally, nearly 13 percent of teachers of academic subjects have neither an undergraduate major nor a minor in their main assignment fields, and the problem is even more severe in high-poverty schools. Many schools—particularly those in high-poverty areas—face severe teacher shortages, particularly in high-need fields such as mathematics, science, foreign languages, bilingual education, reading, and special education. See, e.g., U.S. Department of Education, National Center for Education Statistics, “America's Teachers: Profile of a Profession, 1993-94” (1997). In mathematics and science, the need for better-prepared teachers is particularly acute. High attrition rates further complicate the challenge of providing all of America's students with high-quality teachers. As school enrollments continue to grow and retirements from the current teacher force increase, the Nation's teacher recruitment and preparation challenges will grow more daunting.

On December 21, 2000, the President signed into law the Department of Education Appropriations Act, a component of the Consolidated Appropriations Act 2001, P.L. 106-554. This Act provides $31 million for competitive grants to encourage and help individuals in two important and largely untapped groups to become licensed and successful teachers: (1) Mid-career professionals with work experience in high-need areas, such as engineers and scientists, corporate professionals, and returning Peace Corps volunteers, and (2) recent college graduates with outstanding academic records but without a baccalaureate in education. Under this program, grantees will—

• Recruit individuals in one or both of these groups to become teachers in areas in which specific local educational agencies (LEAs) face critical shortages (for instance in such fields as mathematics, science, foreign languages, bilingual education, reading, and special education);

• Provide these individuals intensive short-term guidance and personal support as they make their career moves, as well as training in areas such as pedagogy and classroom management that will enable them to begin teaching as soon as possible the subjects in which they are qualified to teach;

• Work with the specific LEAs (where the grantee is not itself an LEA) to ensure that these individuals are hired as teachers in schools that need them;

• Help these individuals to (1) complete high-quality training in pedagogy, classroom management, and other requirements of licensure or certification (in State- or LEA-approved alternative routes, where applicable) in the State in which they will teach, and (2) pass any assessment the State (or LEA) requires for a teaching license or certification; and

• Ensure that these individuals receive special high-quality support during at least their first two years of teaching, through such activities as mentoring, co-teaching with experienced teachers, and observation and consultation with experienced teachers, in order to help ensure that they are successful in their new teaching careers.

To encourage those recruited into the program to become qualified teachers, grantees also (1) will use program funds both to pay expenses related to becoming a licensed or certified teacher, and (2) may use program funds to provide these individuals, as may be needed to recruit them into teaching, a financial stipend or incentive of up to $5,000 per year for up to two years.

The Transition to Teaching program provides an historic opportunity to advance two important objectives. First, the program will help participating schools and school districts to address their teacher shortages, particularly those in high-need areas and subjects. It will do so by enabling them to quickly hire individuals who, while currently working in non-teaching occupations, want to make career moves into teaching and already have content knowledge, experience, and talents that likely would help them to become good teachers. Second, the activities that grantees will conduct will likely help to stimulate other talented non-teaching professionals to take advantage of State alternative routes to teacher licensure and certification, and help other LEAs to understand how they can attract similar individuals into teaching. In this regard, once the grants provided under this program are completed, the Department intends to determine which approaches have been most successful in addressing the teaching shortages of participating LEAs, and widely disseminate information about these approaches to the public at large.

A notice inviting applications for grants under the Transition to Teaching program is published elsewhere in this edition of the Federal Register. That notice also explains how the public may obtain an application package. This package explains how to apply for a grant, information that applicants must provide, suggestions for designing a quality application, and the criteria in the Education Department General Administrative Regulations (EDGAR) the Department will use to select those to receive grant awards.

Rules Applicable to This Program for the FY 2001 Competition

In calling for this program in the conference report accompanying the Department's FY 2001 Appropriations Act, Congress said that the purpose of this program is to provide grants—

“for local educational agencies, State educational agencies, educational service agencies, or nonprofit agencies and organizations, including organizations with expertise in teacher recruitment, or partnerships comprised of these entities to recruit, prepare, place and support mid-career professionals from diverse fields who possess strong subject matter skills to become teachers, particularly in high-need fields such as mathematics, science, foreign languages, bilingual education, reading, and special education; and to attract, recruit, screen, select, train, place and provide financial incentives to recent college graduates with outstanding academic records and a baccalaureate in a field other than education to become fully qualified teachers through nontraditional routes.”

See House (Conference) Report 106-1033 on H.R. 4577, page 182.

While this statement of purpose is clear, certain aspects of this new grant program—such as how the Department can fairly evaluate the relative quality of projects proposed by these very different kinds of entities—need definition. Therefore, in order to administer the program fairly and in a manner that is consistent with this statement of purpose, the Department has established the following rules to govern this competition and activities to be undertaken by those who receive grant awards:

The Application Review Process

Given the variety of entities that may apply for grants under this program, the Department expects the scope of proposed recruitment and placement efforts to vary widely. For example, a nonprofit organization might propose activities in communities throughout the nation, an SEA might propose activities to be conducted on a statewide basis, and an LEA might propose activities that would focus on its own teaching needs. In order to evaluate fairly the relative merits of applications proposing projects of such widely varied scope, applications will be placed into and reviewed as part of one of three categories, depending on whether the LEAs to benefit from the project are located (1) in more than one State, (2) statewide or in more than one area of a State, or (3) in a single area of a State. The anticipated average grant amounts and other information regarding these three categories are more fully explained in the notice inviting applications for new awards that is published separately in this edition of the Federal Register.

Because of the variety of entities that may apply for grants under this program, it is possible that an LEA may be the recipient of services under both (1) its own application and (2) the application of the SEA of the State in which the LEA is located or of an educational service agency or nonprofit organization. In this event, should those applications propose duplicative recruitment and placement activities, the Department will offer the LEA a choice of receiving its own grant award or participating in the other entity's project. In the event the LEA chooses to receive its own award, the Department will adjust the other entity's grant award accordingly.

Information That Must Be Included in a Project Application

The success of this program in enhancing the quality of the Nation's teaching force depends on the quality of activities grantees undertake. In particular, it depends on: (1) How well grantees, in response to the teacher shortage needs of participating LEAs, recruit and prepare mid-career professionals with relevant work experience, and recent college graduates with outstanding academic records to become qualified teachers, (2) the extent to which these individuals become employed as teachers in the LEAs and schools that most need them, and (3) the kinds of special support they receive during their first years of teaching. These, in turn, depend on the commitment of the applicant and its partners to ensure that the LEA or LEAs that participate in the project will benefit from the new qualified teachers the project will produce.

How applicants propose to accomplish the objectives of this program is left to their own judgment, ingenuity, and imagination. However, to ensure that funded projects are of high quality and respond to the teacher shortage needs of participating LEAs, all applications will need, at minimum, to identify the following:

1. The critical teacher shortage needs that one or more LEAs have identified (for instance in such fields as mathematics, science, foreign languages, bilingual education, reading, and special education), and the basis for the LEA's assessment of these needs (e.g., numbers of teachers teaching without certification or out-of-field, high teacher attrition, etc.).

2. The target group upon which the project would focus, i.e., either or both—

• Career-changing professionals with work experience in the relevant subject fields (along with any academic background that the LEA or LEAs who would hire them may require), and

• Recent college graduates with outstanding academic records but without a baccalaureate in education.

3. For projects that recruit recent college graduates with outstanding academic records, the applicant's criteria (e.g., minimum grade-point average overall or in area of college major, inclusion in top “xx” percent of the graduating class, receipt of academic honors, etc.) for what constitutes an “outstanding academic record.”

4. The estimated number of these individuals who will become teachers through this project in each participating LEA.

5. The applicant's strategies for ensuring that, to the maximum extent possible, those recruited into the program make teaching in the participating LEA or LEAs their long-term career. In addressing this issue, applicants must describe the proposed strategies with which they will—

• Identify and recruit the target group of individuals to become teachers in participating LEAs (including the applicant's strategy for ensuring that any recruitment costs—including costs that may be needed for non-local travel—are reasonable and necessary); and then ensure that these recruits—

• Receive guidance and personal support needed to ease their transitions from one career to another, as well as appropriate short-term training in areas such as pedagogy and classroom management before they begin teaching—which shall begin as quickly as possible and no later than the beginning of the 2002-03 school year;

• Complete high-quality training in pedagogy, supervised teaching, and other requirements of licensure or certification of the State (and, where applicable, the LEA) in which they will teach;

• Become licensed or certified in the area(s) in which they will teach through, where applicable, a State- (or LEA-) approved alternative route to teacher certification or licensure that does not require completion of a full course of study in a teacher preparation program;

• Teach only in subject areas in which they have prior experience or sufficient academic background until they receive a teaching license or certificate confirming they have met all State (and, if applicable, LEA) requirements related to the subjects they will teach; and

• Receive the special support they will need during at least their first two years of teaching so that they are able to learn to help the diverse groups of students who will be in their classrooms achieve to high standards. This support will include activities such as: mentoring, co-teaching with experienced teachers, observation and consultation with experienced teachers, training in the use of technology, and other sustained and high-quality professional development tied to State and district standards and assessments.

6. The applicant's plans, as part of its overall strategy, for—

• Paying the costs of required courses, State assessments and other expenses related to project participants becoming licensed or certified teachers, and

• determining—

(a) The circumstances under which the applicant, in order to implement the project successfully, would provide to each individual recruited into the program a stipend or financial incentive of up to $5,000 per year for up to two years;

(b) At what point(s) in the project period an individual would receive the stipend or financial incentive; and

(c) The total amount of stipends or incentives the applicant expects to provide out of program funds.

7. The State (or, where applicable, LEA) procedures under which project participants would be certified or licensed including, where available, those for any alternative routes to teacher certification or licensure that the State (or LEA) provides.

8. If applicable, the ways in which the proposed project will help further State and local efforts to establish alternative routes to teacher certification or licensure.

9. The identities of any agencies and organizations that will work with the applicant to implement project activities.

Applicants also will need to include an assurance that recruitment and hiring efforts supported with program funds will expand existing efforts that the applicants or the participating LEAs conduct.

Finally, applicants also will need to include a written statement from the LEA or LEAs in which the project will focus—

• Offering support for the project and a commitment to employ all of the project's participants as soon as possible, but no later than the beginning of the 2002-03 school year, provided that they, in fact, have the subject-matter backgrounds and academic training appropriate to the high-need subjects and fields they would teach, and

• Confirming that, should the applicant propose to use program funds to provide stipends or financial incentives to a program participant after he or she is hired as a teacher (or in the first year of the project in another capacity), the LEA that would hire the individual agrees with these plans.

Applications that do not contain the information identified in items 1 through 9, above, and in the preceding paragraphs will be considered incomplete and not be eligible for funding.

Limitation on Indirect Costs

The amount of indirect costs that a grantee or recipient may charge to Transition to Teaching program funds is limited to (1) eight percent of its direct cost base or (2) the amount determined through operation of an approved negotiated indirect cost rate, whichever is less.

Section 75.562 of EDGAR already imposes this limitation on the reimbursement of indirect costs that a grantee other than an agency of a State or local government may charge on an educational training grant. Section 75.562(a) acknowledges that educational training grants typically have a large proportion of their funds available for direct costs, since these grants largely implement previously developed materials and methods, rather than “support activities involving research, development, and dissemination of new educational materials and methods.” This is likely to be true of the training, instruction, and support activities that Transition to Teaching projects provide. Moreover, while grantees receiving funds under the Transition to Teaching program also must undertake recruitment and placement activities, the thrust of the program is the training and support for teaching candidates and new teachers of the kind described in § 75.562(a) of EDGAR. Hence, we believe that the Transition to Teaching projects as a whole fit the category of “educational training grants.”

There is no reason to believe that LEAs, SEAs, or educational service agencies merit a different measure. As noted above, § 75.562 does not apply to LEAs and State agencies. We recognize the legitimacy of their indirect costs which, absent other requirements, would be limited only by negotiated indirect cost rate agreements that comport with applicable Office of Management and Budget (OMB) cost principles, §§ 75.560-75.564, and the agency's own overall cost structure. However, the best data available to the Department indicate that over 20 States have indirect cost rates of over 15 percent, and two States have indirect cost rates of over 30 percent. Because the program does not use a “restricted indirect cost rate” (see § 75.564), applicable LEA indirect cost rates may also be fairly high. If those reviewing applications recommend these States or LEAs for award of Transition to Teaching program grants, absent a similar limitation on their indirect cost rates, very large amounts of the funds that Congress appropriated for these Transition to Teaching projects would support these agencies' overhead through indirect cost reimbursement rather than the direct costs of activities designed to improve teacher quality.

We believe that such a result is inconsistent with the purpose of the Transition to Teaching program and the expectations that Congress and the Nation have for its success. Therefore, given (1) the pivotal significance of the Transition to Teaching program, (2) the national need for this program to have a maximum impact on the quality and quantity of highly-qualified new teachers, and (3) the fact that this program is competitive, we have determined that it is appropriate to establish a reasonable limitation on the indirect cost rate that any grantee may charge to these educational training grants.

Still, certain activities that grantees must undertake, in particular recruitment and placement of those recruited into the program as teachers in participating LEAs, are not themselves educational training activities. Even if we looked solely at these activities we would require that, regardless of grantee or recipient, a maximum eight-percent indirect cost rate should apply to the costs of these activities as well. We do not believe that Transition to Teaching program grantees or other recipients need to employ higher indirect cost rates to fairly compensate themselves for the costs of their recruitment and placement activities. Rather, since grantees may reasonably undertake recruitment and placement activities as direct costs of their projects, we believe that it is appropriate that all grantees and recipients use the same cap—eight percent—on the indirect cost rate they may use to calculate allowable indirect costs charged to the program's recruitment and placement activities.

This requirement strikes a reasonable balance between the need to focus as much funding as possible under the Transition to Teaching program on direct services tied to identifying, hiring, training, and supporting new teachers from mid-career professionals and recent college graduates, and the reality that, to do so, recipients invariably must encounter some indirect costs. (It also avoids the uncertainty and confusion that grantees would likely face in apportioning the time of project officers and staff among activities with different indirect cost rates.)

Therefore, so that all applicants are competing for and administering projects under a common set of requirements, and to ensure that the funds Congress appropriated for this program are used to recruit, prepare, hire, and support new teachers rather than for project overhead, the Department requires that each grantee and recipient of Transition to Teaching program funds apply an indirect cost rate of eight-percent or its approved negotiated rate, whichever is less, in determining the indirect costs it may charge to program funds.

Note: A grantee may not charge indirect costs to any funds that it provides to individuals as stipends or financial incentives. See section 75.564(c) of EDGAR.

Procedures To Govern Any Partial Termination of Grants

As explained in the section of this notice entitled “Information that Must Be Included in a Project Application,” to be eligible for funding an application must include, among other things, the estimated number of individuals who will become teachers through this project in each year of the grant. In the event that the actual number of individuals recruited into the program who have become teachers is significantly less than the number the grantee had estimated, the amount of funding the grantee will need to pay for training and support activities and for any needed stipends and other financial incentives will be significantly less than the grantee had projected in its approved application. Accordingly, should the Department find that the actual number of teachers hired through a project is less than the number the grantee had estimated, the remaining amount of the grantee's award may be adjusted accordingly. Consistent with §§ 74.61 and 80.43 of EDGAR, before taking any action, the Department will provide the grantee notice and reasonable opportunity to show cause why an adjustment of this kind should not be taken.

So that the Department may receive the information it needs to determine how a grantee's recruitment and hiring efforts compare to the level of recruitment and hiring proposed in the approved grant application, each grantee must provide the Department with this information as part of the annual performance report it submits as required by section 75.590 of EDGAR.

The Government Performance and Results Act

The Government Performance and Results Act of 1993 (GPRA) requires all Federal programs to use performance indicators to measure their quality and effectiveness. GPRA further requires that the Department provide Annual Performance Plans to Congress that provide data on how all of the programs are performing with respect to the program performance indicators. Therefore, the Department submits an annual plan to Congress that provides the most recent data on the Department's five-year Strategic Plan, as well as the latest data on the performance of each program with respect to the program indicators.

The Transition to Teaching program has a set of performance objectives and indicators that appear in Part B in the application package. All grantees must collect data and report to the Department on their progress with respect to each of the performance indicators.

Waiver of Proposed Rulemaking

In accordance with the Administrative Procedure Act (5 U.S.C. 553), it is the practice of the Department of Education to offer interested parties the opportunity to comment on proposed rulemaking documents. However, in order to make timely grant awards in FY 2001, the Secretary has decided to issue these final regulations without first publishing proposed regulations for public comment. These regulations will apply to the FY 2001 grant competition only. The Secretary takes this action under section 437(d)(1) of the General Education Provisions Act. Should Congress fund the Transition to Teaching program in future years and provide sufficient funding to permit a subsequent grant competition, the Assistant Secretary will issue regulations to govern that competition only after first publishing a notice of proposed rulemaking and offering interested parties the opportunity to comment.

Regulatory Flexibility Act Certification

The Secretary certifies that these regulations would not have a significant economic impact on a substantial number of small entities. The small entities that would be affected by these regulations are small LEAs, educational service agencies, nonprofit agencies and other organizations that choose to participate in projects the Department funds competitively under this program. However, the regulations would not have a significant economic impact on any of these entities because the regulations would not impose excessive regulatory burdens or require unnecessary Federal supervision. The regulations would impose minimal requirements to ensure the proper expenditure of program funds.

Paperwork Reduction Act Considerations

The procedures and requirements contained in this notice relate to an application package that the Department has developed under the Transition to Teaching program. The public may obtain copies of these packages by calling or writing the individuals identified at the beginning of this notice as the Department's contact, or through the Department's website: http://www.ed.gov/offices/OPE/heatqp/index.html

As required by the Paperwork Reduction Act, OMB has approved the use of these application packages under the following OMB control number 1810-0635, expiration date April 30, 2004.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: www.ed.gov/legislation/FedRegister

To use PDF you must have Adobe Acrobat Reader, which is available free at the previous site. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number 84.350: Transition to Teaching program)

Dated: April 10, 2001.
Thomas M. Corwin,
Acting Deputy Assistant Secretary for Elementary and Secondary, Education.

[FR Doc. 01-9294 Filed 4-13-01; 8:45 am]

BILLING CODE 4000-01-P